DEPARTMENT OF JUSTICE

Office of Justice Programs

[OJP (OJP) Docket No. 1688]

Meeting of the Public Safety Officer Medal of Valor Review Board

AGENCY: Bureau of Justice Assistance (BJA), Office of Justice Programs (OJP), DOJ.

ACTION: Notice of meeting.

SUMMARY: This is an announcement of a meeting (via conference call-in only) of the Public Safety Officer Medal of Valor Review Board to consider a range of issues of importance to the Board, to include but not limited to: membership/terms; applicant eligibility; the pending 2013-2014 MOV recommendations; the application submissions and review; outreach efforts; and to vote on the position of Board Chairperson. The meeting/conference call date and time is listed below.

DATES: June 18, 2015, 2:00 p.m. to 3:00 p.m. EST.

ADDRESSES: This meeting will take place via conference call.

FOR FURTHER INFORMATION CONTACT: Gregory Joy, Policy Advisor, Bureau of Justice Assistance, Office of Justice Programs, 810 7th Street NW., Washington, DC 20531, by telephone at (202) 514-1369, toll free (866) 859-2687, or by email at Gregory.joy@usdoj.gov.

SUPPLEMENTARY INFORMATION: The Public Safety Officer Medal of Valor Review Board carries out those advisory functions specified in 42 U.S.C. 15202. Pursuant to 42 U.S.C. 15201, the President of the United States is authorized to award the Public Safety Officer Medal of Valor, the highest national award for valor by a public safety officer.

The purpose of this meeting/conference call is to consider a range of issues of importance to the Board, to include but not limited to: Membership/terms; applicant eligibility; the pending 2013-2014 MOV recommendations; the application submissions and review; outreach efforts; and to vote on the position of Board Chairperson.

This meeting/conference call is open to the public at the offices of the Bureau of Justice Assistance. For security purposes, members of the public who wish to participate must register at least seven (7) days in advance of the meeting/conference call by contacting Mr. Joy. All interested participants will be required to meet at the Bureau of Justice Assistance, Office of Justice Programs; 810 7th Street NW., Washington, DC, and will be required to sign in at the front desk. Note: Photo identification will be required for admission. Additional identification documents may be required.

Access to the meeting/conference call will not be allowed without prior registration. Anyone requiring special accommodations should contact Mr. Joy at least seven (7) days in advance of the meeting. Please submit any comments or written statements for consideration by the Review Board in writing at least seven (7) days in advance of the meeting date.

Gregory Joy,
Policy Advisor/Designated Federal Officer, Bureau of Justice Assistance.

[FR Doc. 2015-09529 Filed 4-23-15; 8:45 am]

BILLING CODE 4410-18-P